DEPARTMENT OF THE TREASURY

Internal Revenue Service

Open Meeting of the Taxpayer Advocacy Panel's Tax Forms and Publications Project Committee

AGENCY: Internal Revenue Service (IRS) Treasury.

ACTION: Notice of meeting.

SUMMARY: An open meeting of the Taxpayer Advocacy Panel's Tax Forms and Publications Project Committee will be conducted. The Taxpayer Advocacy Panel is soliciting public comments, ideas, and suggestions on improving customer service at the Internal Revenue Service. Due to a delay in the approval process and a late start with our initial meetings, we are getting a late start to the TAP year. Because of this we will not be able to meet the 15 calendar-day notice requirement. We anticipate all future Federal Register notices to be timely moving forward. This meeting will be held via teleconference.

DATES: The meeting will be held Tuesday, April 12, 2022.

FOR FURTHER INFORMATION CONTACT: Fred Smith at 1-888-912-1227 or (202) 317-3087.

SUPPLEMENTARY INFORMATION: Notice is hereby given pursuant to Section 10(a)(2) of the Federal Advisory Committee Act, 5 U.S.C. App. (1988) that a meeting of the Taxpayer Advocacy Panel's Tax Forms and Publications Project Committee will be held Tuesday, April 12, 2022, at 1:00 p.m. Eastern Time. The public is invited to make oral comments or submit written statements for consideration. Due to limited time and structure of meeting, notification of intent to participate must be made with Fred Smith. For more information, please contact Fred Smith at 1-888-912-1227 or (202) 317-3087, or write TAP Office, 1111 Constitution Ave. NW, Room 1509, Washington, DC 20224 or contact us at the website: http://www.improveirs.org.

Dated: April 1, 2022.
Kevin Brown,
Acting Director, Taxpayer Advocacy Panel.

[FR Doc. 2022-07329 Filed 4-6-22; 8:45 am]

BILLING CODE 4830-01-P